DEPARTMENT OF HOMELAND SECURITY

Federal Emergency Management Agency

[Docket ID FEMA-2014-0022]

Technical Mapping Advisory Council

AGENCY: Federal Emergency Management Agency, DHS.

ACTION: Committee Management; Notice of Federal Advisory Committee Meeting.

SUMMARY: The Federal Emergency Management Agency (FEMA) Technical Mapping Advisory Council (TMAC) will meet in person on August 4-5, 2015, in Reston, VA. The meeting will be open to the public.

DATES: The TMAC will meet on Tuesday, August 4, 2015, from 8:00 a.m.-5:30 p.m., and Wednesday, August 5, 2015, from 8:00 a.m.-5:00 p.m., Eastern Daylight Savings Time (EDT). Please note that the meeting will close early if the TMAC has completed its business.

ADDRESSES: The meeting will be held in the auditorium of the United States Geological Survey (USGS) headquarters building located at 12201 Sunrise Valley Drive Reston, VA 20192. Members of the public who wish to attend the meeting must register in advance by sending an email to FEMA-TMAC@fema.dhs.gov (attention Mark Crowell) by 11 p.m. EDT on Thursday, July 30, 2015. Members of the public must check in at the USGS Visitor's entrance security desk; photo identification is required.

For information on facilities or services for individuals with disabilities or to request special assistance at the meeting, contact the person listed in FOR FURTHER INFORMATION CONTACT below as soon as possible.

To facilitate public participation, members of the public are invited to provide written comments on the issues to be considered by the TMAC, as listed in the SUPPLEMENTARY INFORMATION section below. Associated meeting materials will be available at www.fema.gov/TMAC for review by Monday, July 27, 2015. Written comments to be considered by the committee at the time of the meeting must be submitted and received by Wednesday, July 29, 2015, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided. Docket: For docket access to read background documents or comments received by the TMAC, go to http://www.regulations.gov and search for the Docket ID FEMA-2014-0022.

A public comment period will be held on August 4, 2015, from 4:30 p.m. to 5:00 p.m. and again on August 5, 2015, from 3:30 to 4:00 p.m. Speakers are requested to limit their comments to no more than three minutes. The public comment period will not exceed 30 minutes. Please note that the public comment period may end before the time indicated, following the last call for comments. Contact the individual listed below to register as a speaker by close of business on Wednesday, July 29, 2015.

FOR FURTHER INFORMATION CONTACT: Mark Crowell, Designated Federal Officer for the TMAC, FEMA, 1800 South Bell Street Arlington, VA 22202, telephone (202) 646-3432, and email mark.crowell@fema.dhs.gov. The TMAC Web site is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

The TMAC must also develop recommendations on how to ensure that flood insurance rate maps incorporate the best available climate science to assess flood risks and ensure that FEMA uses the best available methodology to consider the impact of the rise in sea level and future development on flood risk. The TMAC must collect these recommendations and present them to the FEMA Administrator in a future conditions risk assessment and modeling report.

Further, in accordance with the Homeowner Flood Insurance Affordability Act of 2014, the TMAC must develop a review report related to flood mapping in support of the National Flood Insurance Program (NFIP).

Agenda: On August 4, 2015, the TMAC members will present and deliberate on draft narrative and recommendations concerning (1) the flood hazard mapping process and product, and (2) future conditions methods and considerations that will be incorporated into both the 2015 Annual Report and the Future Conditions Report. A brief public comment period will take place prior to the end of the meeting.

On August 5, 2015, the TMAC members will continue to deliberate on draft narratives and recommendations concerning (1) the flood hazard mapping process and product, and (2) future conditions methods and considerations that will be incorporated in the two reports. In addition, the TMAC members will identify and coordinate next steps of the TMAC report development. A brief public comment period will take place during the meeting. The full agenda and related briefing materials will be posted for review by July 27, 2015 at http://www.fema.gov/TMAC.

Dated: July 14, 2015.
W. Craig Fugate,
Administrator, Federal Emergency Management Agency.

[FR Doc. 2015-17706 Filed 7-17-15; 8:45 am]

BILLING CODE 9110-12-P